DEPARTMENT OF ENERGY

Solicitation for Expressions of Interest; Low-Cost Prototype Inverters

AGENCY: U.S. Department of Energy.

ACTION: Notice of Solicitation for Participation in Competition to Create Low-Cost Inverters.

SUMMARY: The U.S. Department of Energy (DOE), in partnership with the National Association of State Energy Officials (NASEO), the Institute of Electrical and Electronics Engineers (IEEE), and other sponsors announces an opportunity for qualified colleges and university engineering programs to submit proposals to compete for a cash prize for funds to build prototype, low-cost inverters, in a contest titled the 2001 Future Energy Challenge. This competition is open to schools with ABET-accredited engineering programs or the equivalent.

DATES: Additional information on this competition and application requirements will be mailed beginning February 1, 2000, with a due date for receipt of application requirements of April 3, 2000. Schools selected to compete in the 2001 Future Energy Challenge will be notified by May 1, 2000. The competition will be scheduled for late May or early June 2001.

ADDRESSES: If your school is interested in receiving an application requirements package for the 2001 Future Energy Challenge, complete the attached form and fax or mail it to the address on the form. You can also e-mail your response to: samuel.biondo@hq.doe.gov. Be sure to include all the information requested on the form or in your e-mail message. The application requirements package will also provide information on how you might qualify for seed money from other sponsors. (Note: The agency or organization providing the seed money will solicit and evaluate the application requirements for seed funding, not DOE.)

SUPPLEMENTARY INFORMATION: The 2001 Future Energy Challenge seeks to dramatically improve the design and reduce the cost of DC-AC inverters and interface systems for use in distributed generation systems. DOE is joining with NASEO, and possibly others, to sponsor this competition with the goal of making these interface systems practical and cost effective. The objectives are to design elegant, manufacturable systems that would reduce the costs of commercial interface systems by at least 50% and, thereby, accelerate the deployment of distributed generation systems in homes and buildings. Schools with the capability to undertake the challenging task of designing complete systems or modifying commercial inverters to achieve design and manufacturability improvements that lead to cost reductions of 50% or better are invited to submit proposals to DOE to compete. Schools may elect to compete in one of three classes: an engineering design study class that involves a thorough design, analysis, cost, and simulation study; a scale prototype class in which hardware is built and demonstrated at a fraction of the target power level; and a full prototype class that leads to a comprehensive hardware system. Schools should plan to form multi-disciplinary teams to address the energy source characteristics (selected from fuel cells, solar panels, or other direct energy conversion devices), design the power electronics, design packaging and thermal management systems, develop filtering and other interface sub-systems, analyze process costs and manufacturability, and perform economic and life-cycle cost analyses.

The hardware prototypes judged as best will be tested by fuel cell manufacturers, at DOE energy technology centers, or at national laboratory facilities as interfaces for a fuel cell source. The school with the most cost-effective, fully functional design that can meet the aggressive cost target will win a prize of at least $50,000. Proposals will be judged by a distinguished panel of experts from the IEEE.

Issued in Washington, D.C., on January 14, 2000.
Robert W. Gee,
Assistant Secretary for Fossil Energy.

BILLING CODE 6450-01-P

[FR Doc. 00-1720 Filed 1-24-00; 8:45 am]

BILLING CODE 6450-01-C